INTERNATIONAL TRADE COMMISSION

[Investigation No. 337-TA-1399]

Certain Fiber-Optic Connectors, Adapters, Jump Cables, Patch Cords, Products Containing the Same, and Components Thereof; Notice of Commission Determination Not To Review an Initial Determination Terminating the Investigation Based on Settlement; Termination of the Investigation

AGENCY: U.S. International Trade Commission.

ACTION: Notice.

SUMMARY: Notice is hereby given that the U.S. International Trade Commission has determined not to review an initial determination (“ID”) (Order No. 34) of the presiding administrative law judge (“ALJ”) terminating the two remaining respondents based on settlement. The investigation is thus terminated in its entirety.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On April 26, 2024, the Commission instituted this investigation based on a complaint, as supplemented, filed on behalf of US Conec, Ltd., of Hickory, North Carolina (“US Conec”). 89 FR 32459-60 (Apr. 26, 2024). The complaint alleged violations of section 337 of the Tariff Act of 1930, as amended, 19 U.S.C. 1337, based upon the importation into the United States, the sale for importation, and the sale within the United States after importation of certain fiber-optic connectors, adapters, jump cables, patch cords, products containing the same, and components thereof that infringe certain claims of U.S. Patent Nos. 11,733,466; 11,808,994; 11,906,794; 11,880,075; 11,385,415 and 10,495,823. Id. at 32459. The complaint also alleged that a domestic industry exists. Id. The Commission's notice of investigation names as respondents Senko Advance Co., Ltd. of Yokkaichi City, Japan and Senko Advanced Components, Inc. of Hudson, Massachusetts (“the Senko Respondents”); Eaton Corp. of Dublin, Ireland; Tripp Lite Holdings, Inc. of Woodridge, Illinois; FS.com Inc. of New Castle, Delaware (“FS.com”); Infinite Electronics, Inc. of Irvine, California; L-com, Inc. of North Andover, Massachusetts; Sumitomo Electric Industries, Ltd. of Osaka, Japan, Sumitomo Electric Lightwave Corp. of Raleigh, North Carolina, and Sumitomo Electric U.S.A., Inc. of Torrance, California (together, “Sumitomo”); EZconn Corp. of New Taipei City, Taiwan; Flexoptix GmbH of Darmstadt, Germany; Shenzhen UnitekFiber Solution Ltd. of Shenzhen, China; Hubbell Inc. of Shelton, Connecticut; Hubbell Premise Wiring, Inc. of Shelton, Connecticut; Shenzhen IH Optics Co., Ltd. of Shenzhen, China; Rayoptic Communication Co., Ltd., of Shenzhen, China; and HuNan Surfiber Technology Co., Ltd. of Changsha, China. Id. at 32460. The Office of Unfair Import Investigations (“OUII”) is participating in this investigation. Id.

The Commission previously terminated the investigation in part based on the entry of consent orders with respect to the following respondents: FS.com Inc., Order No. 15 (Jun. 25, 2024), unreviewed by Comm'n Notice (Jul. 24, 2024); Shenzhen IH Optics Co., Ltd., Order No. 16 (Jun. 26, 2024), unreviewed by Comm'n Notice (Jul. 24, 2024); Flexoptix GmbH, Order No. 17 (Jun. 26, 2024), unreviewed by Comm'n Notice (Jul. 24, 2024). The Commission also previously terminated the investigation in part based on settlement with respect to Sumitomo. Sumitomo, Order No. 21 (Jul. 15, 2024), unreviewed by Comm'n Notice (Aug. 8, 2024).

The Commission further previously terminated the investigation in part based on US Conec's withdrawal of the complaint with respect to the following respondents: Hubbell Inc., Hubbell Premise Wiring, Inc., EZconn Corp., Changzhou Co-Net Electronic Technology Co., Ltd., Shenzhen UnitekFiber Solution Ltd., Rayoptic Communication Co., Ltd., HuNan Surfiber Technology Co., Ltd., Eaton Corp., Tripp Lite Holdings, Inc., Infinite Electronics, Inc., and L-Com, LLC. Order No. 33 (Sept. 3, 2024), unreviewed by Comm'n Notice (Oct. 3, 2024).

On July 9, 2024, US Conec filed a motion for leave to amend the complaint and notice of investigation to add three respondents: Protai Photonic Co., Ltd., Jarllytec Co., Ltd., and Wave2Wave Solutions Corp. d/b/a FiberSmart. The ALJ issued Order No. 27 granting the motion to allow US Conec to amend its complaint. Order No. 27 (Jul. 31, 2024), unreviewed by Comm'n Notice (Aug. 16, 2024). But while US Conec was granted leave to amend its complaint, US Conec never filed an amended complaint. Therefore, Protai Photonic Co., Ltd., Jarllytec Co., Ltd., and Wave2Wave Solutions Corp. d/b/a FiberSmart were not added to the investigation as respondents.

On September 23, 2024, US Conec and the Senko Respondents jointly moved to terminate the investigation with respect to the Senko Respondents based on settlement. That same day, OUII filed a response in support of the motion. No other party responded to the motion.

On July 15, 2024, the ALJ issued the subject ID granting the motion and terminating the investigation with respect to the Senko Respondents based on settlement pursuant to Commission Rule 210.21(b)(1) (19 CFR 210.21(b)(1)). Because the Senko Respondents were the last remaining respondents in the investigation, the ID also terminates the investigation in its entirety. No petitions for review of the subject ID were received.

The Commission has determined not to review the subject ID. This investigation is hereby terminated.

The Commission vote for this determination took place on October 11, 2024.

The authority for the Commission's determination is contained in section 337 of the Tariff Act of 1930, as amended (19 U.S.C. 1337), and in part 210 of the Commission's Rules of Practice and Procedure (19 CFR part 210).

By order of the Commission.
Issued: October 11, 2024.
Lisa Barton,
Secretary to the Commission.

[FR Doc. 2024-23968 Filed 10-16-24; 8:45 am]

BILLING CODE 7020-02-P